FEDERAL COMMUNICATIONS COMMISSION

Sunshine Act Meeting

April 8, 2004.

The Federal Communications Commission will hold an open meeting on the subjects listed below on Thursday, April 15, 2004, which is scheduled to commence at 9:30 a.m. in Room TW-C305, at 445 12th Street, SW., Washington, DC.

Item No.: 1.

Bureau: Office of Engineering and Technology.

Title: Review of Part 15 and other Parts of the Commission's Rules (ET Docket No. 01-278; RM-9375, and RM-10051).

Summary: The Commission will consider a Third Report and Order concerning rule changes for radio frequency identification systems operating at 433 MHz.

Item No.: 2.

Bureau: Media

Title: Digital Audio Broadcasting Systems and Their Impact on the Terrestrial Radio Broadcast Service (MM Docket No. 99-325).

Summary: The Commission will consider a Further Notice of Proposed Rulemaking concerning rule changes for radio stations that broadcast digital audio using In-Band On-Channel (“IBOC”) technology.

Item No.: 3.

Bureau: Office of Engineering and Technology.

Title: Unlicensed Operation in the Band 3650-3700 MHz; Additional Spectrum for Unlicensed Devices Below 900 MHz and in the 3 GHz Band (ET Docket No. 02-380); and Amendment of the Commission's Rules with Regard to the 3650-3700 MHz Government Transfer Band (ET Docket No. 98-237).

Summary: The Commission will consider a Notice of Proposed Rulemaking concerning use of the 3650-3700 MHz band.

Note: The summaries listed in this notice are intended for the use of the public attending open Commission meetings. Information not summarized may also be considered at such meetings. Consequently these summaries should not be interpreted to limit the Commission's authority to consider any relevant information.

Additional information concerning this meeting may be obtained from Audrey Spivack or David Fiske, Office of Media Relations, (202) 418-0500; TTY 1-888-835-5322.

Audio/Video coverage of the meeting will be broadcast live over the Internet from the FCC's Audio/Video Events Web page at www.fcc.gov/realaudio.

For a fee this meeting can be viewed live over George Mason University's Capitol Connection. The Capitol Connection also will carry the meeting live via the Internet. To purchase these services call (703) 993-3100 or go to www.capitolconnection.gmu.edu. Audio and video tapes of this meeting can be purchased from CACI Productions, 341 Victory Drive, Herndon, VA 20170, (703) 834-1470, Ext. 19; Fax (703) 834-0111.

Copies of materials adopted at this meeting can be purchased from the FCC's duplicating contractor, Qualex International (202) 863-2893; Fax (202) 863-2898; TTY (202) 863-2897. These copies are available in paper format and alternative media, including large print/type; digital disk; and audio tape. Qualex International may be reached by e-mail at Qualexint@aol.com.

Federal Communications Commission.
Marlene H. Dortch,
Secretary.

[FR Doc. 04-8482 Filed 4-9-04; 1:58 pm]

BILLING CODE 6712-01-U